DEPARTMENT OF AGRICULTURE

Food Safety and Inspection Service

9 CFR Parts 300, 441, 530-534, 537, 539, 540, 541, 544, 548, 550, 552, 555, 557, and 559-561

[Docket No. FSIS-2011-0010]

Public Meetings on the Proposed Rule for Mandatory Inspection of Catfish and Catfish Products

AGENCY: Food Safety and Inspection Service, USDA.

ACTION: Notice of public meetings; request for comment.

SUMMARY: The Food Safety and Inspection Service (FSIS) is announcing that it will hold two public meetings to receive comments on the proposed regulation to implement a program for mandatory inspection of catfish and catfish products (Docket No. FSIS-2008-0031), published February 24, 2011 in the Federal Register.

DATES: The first meeting will be held in Washington, DC, on May 24, 2011; 9 a.m. to 12 p.m. EDT, in the USDA Jefferson Auditorium (South Building), 1400 Independence Avenue SW., Washington, DC 20250. Attendees must provide a photo ID to enter the building. The Jefferson Auditorium is located at Wing 6 in the South Building. Attendees should enter the building via Wing 5 or 7 on 14th Street and Independence Avenue, SW.

The second meeting will be held in Stoneville, Mississippi, on May 26, 9 a.m. to 12 p.m., in the Charles Capp Center at the Delta Research and Extension Center of the Mississippi State University. The Charles Capp Center is located at 82 Stoneville Road, Stoneville, MS 38776. The telephone contact number is (662) 686-3442.

Registration will begin at 8:30 a.m. local time at each location.

Meeting times may be adjusted according to public participation and comments.

FOR FURTHER INFORMATION CONTACT: Joan Lindenberger, Office of Public Affairs and Consumer Education, (202) 720-6755, or by e-mail at Joan.Lindenberger@fsis.usda.gov.

Registration: Pre-registration for this meeting is recommended. To pre-register, access the FSIS Web site, at http://www.fsis.usda.gov/News/Meetings_&_Events/. Select the meeting(s) you wish to attend and complete the registration form as requested. Persons requiring a sign language interpreter or other special accommodations should notify Ms. Lindenberger 15 business days prior to the meeting.

Public Comment: Anyone wishing to make a public comment must indicate that preference during the registration process. In addition to these meetings, interested persons may submit comments on the proposed rule (76 FR 10434) on or before June 24, 2011, using either of the following methods:

Federal eRulemaking Portal: Go to http://www.regulations.gov and follow the online instructions at that site for submitting comments.

Mail, including CD-ROMs, and hand- or courier-delivered items: Send to Docket Clerk, U.S. Department of Agriculture, Food Safety and Inspection Service, Room 2-2127 George Washington Carver Center, 5601 Sunnyside Avenue, Mailstop 5272, Beltsville, MD 20705-5272.

Instructions: All items submitted by mail or electronic mail must include the Agency name and docket number FSIS—2008-0031. Comments received in response to this docket will be made available for public inspection and posted without change, including any personal information, to: http://www.regulations.gov.

Docket: For access to background documents or comments received, go to the FSIS Docket Room at the address listed above between 8:30 a.m. and 4:30 p.m., Monday through Friday.

SUPPLEMENTARY INFORMATION:

I. Background

U.S. catfish processors, exporters, and importers are currently subject to the U.S. Food and Drug Administration's (FDA's) Hazard Analysis and Critical Control Point (HACCP) regulations for seafood (9 CFR part 123), including catfish, and to other requirements under the Food, Drug and Cosmetic (FD&C) Act (21 U.S.C. 301 et seq.). The National Marine Fisheries Service conducts voluntary, fee-for-service inspection and certification programs for catfish under provisions of the Agricultural Marketing Act (7 U.S.C. 1622, 1624) and regulations implementing that Act (50 CFR part 260).

The Food, Conservation, and Energy Act of 2008 (Pub. L. 110-246, § 10016(b)), known as the 2008 Farm Bill, amended the Federal Meat Inspection Act (FMIA) to provide that “catfish, as defined by the Secretary,” is a species amenable to the FMIA (21 U.S.C. 601 (w)(2)) and amended the FMIA in other ways to provide for catfish inspection. FSIS, the Agency that administers the FMIA, has proposed regulations to implement the Farm Bill amendments of the FMIA that require inspection of catfish and catfish products. The proposed regulations cover such subjects as preharvest and transportation, facilities and sanitation, requirements for Sanitation Standard Operation Procedures and HACCP plans, handling and disposal of condemned and inedible materials, product labeling, food ingredients and preparation of products, records required to be kept, and export and import requirements.

Under the proposed regulations, catfish and catfish products imported into the United States would have to come from countries that FSIS has determined to operate systems of inspection equivalent to that of FSIS and from establishments certified by the foreign inspection system as complying with FSIS requirements. Upon arrival at United States points of entry, the catfish and catfish products would be subject to re-inspection before entry into this country.

The proposed rule provides for a transition period during which domestic and international operations would come into compliance with the catfish inspection program. Comments are requested regarding the transition phases and their duration. FSIS plans to announce in the final rule the implementation dates for each transition phase.

In addition, FSIS is soliciting comments on the scope of the proposed regulations and, in particular, whether to define catfish as members of the order Siluriformes or to limit the definition to members of the family Ictaluridae.

II. Purpose of the Meeting and Agenda

The purpose of the public meeting is to provide the public with an opportunity to comment on the proposed rule. Meeting times at each location may be adjusted according to public participation and comments.

The agenda and other documents related to the meetings will be made available for viewing prior to the meeting at the FSIS Web site: http://www.fsis.usda.gov/News/Meetings_&_Events/. The proposed rule is available at: http://www.fsis.usda.gov/OPPDE/rdad/FRPubs/2008-0031.pdf. The preliminary regulatory impact analysis, the risk assessment, reports on analysis of catfish samples for residues, and links to other documents are can be found at: http://www.fsis.usda.gov/Regulations_&_Policies/Proposed_Rules/index.asp

III. Transcripts

As soon as the meeting transcripts are available, they will be accessible on the FSIS Web site at http://www.fsis.usda.gov/News/Meetings_&_Events/. The transcripts may also be viewed at the FSIS Docket Room, U.S. Department of Agriculture, Food Safety and Inspection Service, Room 2-2127 George Washington Carver Center, 5601 Sunnyside Avenue, Beltsville, MD 20705.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

Public awareness of all segments of rulemaking and policy development is important. Consequently, in an effort to ensure that the public and in particular minorities, women, and persons with disabilities, are aware of this notice, FSIS will announce it online through the FSIS Web site: http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service delivered to industry, trade, and farm groups, consumer interest groups, allied health professionals, scientific professionals, and other individuals who have requested to be included. The Update also is available on the FSIS Web site. Through Listserv and the Web site, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves, and have the option to password protect their accounts.

Done, at Washington, DC, on May 4, 2011.
Alfred V. Almanza,
Administrator.

[FR Doc. 2011-11213 Filed 5-4-11; 4:15 pm]

BILLING CODE 3410-DM-P